DEPARTMENT OF THE INTERIOR

Bureau of Land Management

[OR-027-1020-PH-029H; HAG 06-0163]

Meeting Notice for the Southeast Oregon Resource Advisory Council

AGENCY: Bureau of Land Management, Department of the Interior, Burns District.

ACTION: Notice.

SUMMARY: The Southeast Oregon Resource Advisory Council (SEORAC) will hold a meeting Monday, August 7 from 8 a.m. to 4 p.m., at the Holiday Inn Ontario, 1249 Tapadera Avenue, Ontario, Oregon 97914. A field trip to the Bully Creek area of the Vale District Bureau of Land Management (BLM) for SEORAC members will follow on Tuesday, August 8.

Agenda items for Monday's session include liaison reports from SEORAC members; updates from Designated Federal Officials; follow-up information sharing on the Grazing Administration Rule, the Recreation Resource Advisory Council (RAC), and Statewide transportation planning and a joint sub-committee with the John Day/Snake RAC; review of SEORAC jurisdictional boundaries and district-by-district planning efforts through fiscal year 2007; and discussion on the Malheur National Forest Plan, energy issues, the monitoring pilot project, and possible RAC involvement. Other matters that may reasonably come before the SEORAC may also be addressed.

The public is welcome to attend all portions of the meeting and may contribute during the public comment session at 11 a.m. Those who verbally address the SEORAC during public comment are asked to also provide a written statement of their comments or presentation. Unless otherwise approved by the SEORAC Chair, the public comment period will last no longer than 30 minutes, and each speaker may address the SEORAC for a maximum of 5 minutes.

If you have information you would like distributed to SEORAC members, please send it to Sally Nelson at the Burns District Office, 28910 Hwy 20 West, Hines, Oregon 97738, prior to the start of the meeting.

FOR FURTHER INFORMATION CONTACT: Tara Wilson, SEORAC Facilitator, Burns District Office, 28910 Hwy 20 West, Hines, Oregon 97738, (541) 573-4519, or Tara_Wilson@blm.gov.

Dated: July 20, 2006.
Dana R. Shuford,
District Manager.

[FR Doc. E6-12017 Filed 7-26-06; 8:45 am]

BILLING CODE 4310-33-P